DEPARTMENT OF AGRICULTURE

Submission for OMB Review; Comment Request

February 13, 2017.

The Department of Agriculture will submit the following information collection requirement(s) to OMB for review and clearance under the Paperwork Reduction Act of 1995, Public Law 104-13 on or after the date of publication of this notice. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 20, 2017. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Processed Egg and Egg Products Verification Program.

OMB Control Number: 0581-New.

Summary of Collection: The Agricultural Marketing Act of 1946 (AMA) (7 U.S.C. 1621-1627), authorizes the Secretary of Agriculture to provide consumers with voluntary Federal certification services that facilitate the marketing of agricultural commodities. The Agricultural Marketing Service (AMS) provides these services under the authority of 7 CFR part 62—Livestock, Meat, and Other Agricultural Commodities (Quality System Verification Program (QSVP)). QSVP is a voluntary audit-based, user-fee programs collection that allows applicants to have program documentation and program processes assessed by AMS auditors. QSVP programs are available to respondents who request these services with fees based on an approved hourly rate established under 7 CFR part 62. The Processed Egg and Egg Products Export Verification (PEEPEV) Program is a voluntary export verification program that aids domestic food manufacturers in exporting processed food products containing eggs to other countries. As part of this service AMS will issue an official certificate for product from facilities verified by AMS as meeting the requirements of the Program. To facilitate this process, AMS will use a new form LPS-234, USDA Processed Egg and Egg Products Export Certificate.

Need and Use of the Information: The information is collected from domestic food manufacturers who request to participate in the PEEPEV program to export processed food products containing egg to other countries. The information will be used by authorized representatives of the USDA (AMS, Livestock, Poultry, and Seed Program's QAD national and field staff) to complete the form LPS-234. The information collection requirements in this request are essential to carry out the intent of the AMA, to provide respondents the type of service they request and to administer the program.

Description of Respondents: Business or other for-profit; Farms.

Number of Respondents: 43.

Frequency of Responses: Reporting: On occasion.

Total Burden Hours: 129.

Charlene Parker,
Departmental Information Collection Clearance Officer.

[FR Doc. 2017-03132 Filed 2-15-17; 8:45 am]

BILLING CODE 3410-02-P